DEPARTMENT OF HEALTH AND HUMAN SERVICES

Centers for Disease Control and Prevention

[60Day-08-0672]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Indicators of the Performance of Local and State and Education Agencies in HIV-prevention and Coordinated School Health Program Activities for Adolescent and School Health Programs—Reinstatement with Change—National Center for Chronic Disease Prevention and Health Promotion (NCCDPHP), Centers for Disease Control and Prevention (CDC).

Background and Brief Description

The Division of Adolescent and School Health (DASH), CDC, supports HIV prevention activities and coordinated school health program (CSHP) activities conducted by local education agencies (LEA) and state and territorial education agencies (SEA and TEA). DASH has previously collected information on these activities under OMB control number 0920-0672, which is scheduled to expire in February 2008. Because there is currently no other standardized annual reporting process for HIV prevention activities or CSHP activities, DASH seeks OMB approval to reinstate the previously fielded web-based questionnaires. In addition, DASH proposes to add a new questionnaire to assess asthma management activities to be conducted by LEAs and SEAs.

Four Web-based questionnaires will be used that correspond to specific funding sources within the Division of Adolescent and School Health. Two questionnaires pertain to HIV-prevention program activities among LEAs and SEAs/TEAs. The third questionnaire pertains to asthma management activities among LEAs. The fourth questionnaire pertains to CSHP activities among SEAs.

The two HIV questionnaires will include questions on:

• Distribution of, professional development and individualized technical assistance on school policies.

• Distribution of, professional development and individualized technical assistance on education curricula and instruction.

• Distribution of, professional development and individualized technical assistance assessment on student standards.

• Collaboration with external partners.

• Targeting priority populations.

• Planning and improving projects.

• Information about additional program activities.

The asthma questionnaire will ask the questions above, but will focus on asthma management activities.

The CSHP questionnaire will also ask the questions above, but will focus on physical activity, nutrition, and tobacco-use prevention activities (PANT). It will include additional questions on:

• Joint activities of the State Education Agency and State Health Agency (SHA).

• Activities of the CSHP state-wide coalition.

• Health promotion programs and environmental approaches to PANT.

Information gathered from the questionnaires will: (1) Provide standardized information about how HIV prevention, asthma management, and CSHP funds are used by LEAs and SEAs; (2) assess the extent to which programmatic adjustments are indicated; (3) provide descriptive and process information about program activities; and (4) provide greater accountability for use of public funds.

Each Web-based questionnaire will be completed annually. There are no costs to respondents except their time to participate in the survey.

Estimated Annualized Burden Hours
Type of respondents | Form name | Number of respondents | Number of responses per respondent | Average burden per response (in hours) | Total burden response (in hours)
Local Education Agency Officials | Indicators for School Health Programs: HIV Prevention (LEA) | 18 | 1 | 7 | 126
| Asthma Management Education Question-naire | 10 | 1 | 7 | 70
State and Territorial Education Agency Officials | Indicators for School Health Programs: HIV Prevention (SEA) | 55 | 1 | 7 | 385
State Education Agency Officials | Indicators for School Health Programs: Coordinated School Health Programs | 23 | 1 | 10 | 230
Total |  |  |  |  | 811

Dated: December 12, 2007.
Maryam I. Daneshvar,
Acting Reports Clearance Officer, Centers for Disease Control and Prevention.

[FR Doc. E7-24704 Filed 12-19-07; 8:45 am]

BILLING CODE 4163-18-P